DEPARTMENT OF HEALTH AND HUMAN SERVICES

Centers for Disease Control and Prevention

Disease, Disability, and Injury Prevention and Control Special Emphasis Panel (SEP): BECAUSE Kids Count (Building and Enhancing Community Alliances United for Safety and Empowerment), Program Announcement Number 04142

In accordance with Section 10(a)(2) of the Federal Advisory Committee Act (Pub. L. 92-463), the Centers for Disease Control and Prevention (CDC) announces the following meeting:

Name: Disease, Disability, and Injury Prevention and Control Special Emphasis Panel (SEP): BECAUSE Kids Count (Building and Enhancing Community Alliances United for Safety and Empowerment), Program Announcement Number 04142.

Times and Dates: 4 p.m.-5:30 p.m., July 15, 2004 (Open), 9 a.m.-4:30 p.m., July 16, 2004 (Closed).

Place: Sheraton Buckhead, 3405 Lenox Road, NE, Atlanta, GA 30326, Telephone 404.261.9250.

Status: Portions of the meeting will be closed to the public in accordance with provisions set forth in Section 552b(c) (4) and (6), Title 5 U.S.C., and the Determination of the Director, Management Analysis and Services Office, CDC, pursuant to Pub. L. 92-463.

Matters To Be Discussed: The meeting will include the review, discussion, and evaluation of applications received in response to Program Announcement Number 04142.

For Further Information Contact: La Tanya Butler, Deputy Branch Chief, Program Implementation Branch, DVP/NCIPC, 4770 Buford Highway, NE, MS-K60, Atlanta, GA 30310, Telephone 770.488.4653.

The Director, Management Analysis and Services Office has been delegated the authority to sign Federal Register notices pertaining to announcements of meetings and other committee management activities, for both CDC and the Agency for Toxic Substances and Disease Registry.

Dated: June 15, 2004.
Alvin Hall,
Director, Management Analysis and Services Office, Centers for Disease Control and Prevention (CDC).

[FR Doc. 04-13913 Filed 6-18-04; 8:45 am]

BILLING CODE 4163-18-P